DEPARTMENT OF TRANSPORTATION

Pipeline and Hazardous Materials Safety Administration

49 CFR Part 195

[Docket ID PHMSA-2010-0229]

RIN 2137-AE66

Pipeline Safety: Safety of On-Shore Hazardous Liquid Pipelines

AGENCY: Pipeline and Hazardous Materials Safety Administration (PHMSA), DOT.

ACTION: Notice of proposed rulemaking; Extension of comment period.

SUMMARY: On October 18, 2010, (75 FR 63774), PHMSA published in the Federal Register an Advance Notice of Proposed Rulemaking (ANPRM) titled: “Safety of On-Shore Hazardous Liquid Pipelines” seeking comments on the need for changes to the regulations covering hazardous liquid onshore pipelines. PHMSA has received requests to extend the comment period in order to have more time to evaluate the ANPRM. PHMSA has concurred in part with these requests and has extended the comment period from January 18, 2011, to February 18, 2011.

DATES: The closing date for filing comments is extended from January 18, 2011, until February 18, 2011.

ADDRESSES: Comments should reference Docket No. PHMSA-2010-0229 and may be submitted in the following ways:

• E-Gov Web Site: http://www.Regulations.gov. This site allows the public to enter comments on any Federal Register notice issued by any agency.

• Fax: 1-202-493-2251.

• Mail: DOT Docket Management System: U.S. DOT, Docket Operations, M-30, West Building Ground Floor, Room W12-140, 1200 New Jersey Avenue, SE., Washington, DC 20590-0001.

Hand Delivery: DOT Docket Management System; West Building Ground Floor, Room W12-140, 1200 New Jersey Avenue, SE., Washington, DC 20590-0001 between 9 a.m. and 5 p.m., Monday through Friday, except Federal holidays.

Instructions: You should identify the Docket No. PHMSA-2010-0229 at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: For further information contact Mike Israni at 202-366-4566 or by e-mail at mike.israni@dot.gov.

SUPPLEMENTARY INFORMATION: On October 18, 2010, (75 FR 63774), PHMSA published an ANPRM seeking comments on the need for changes to the regulations covering hazardous liquid onshore pipelines. In particular, PHMSA is interested in knowing whether it should extend regulation to certain pipelines currently exempt from regulation; whether other areas along a pipeline should be identified for extra protection or be included as additional high consequences areas (HCAs) for Integrity Management (IM) protection; whether to establish and/or adopt standards and procedures for minimum leak detection requirements for all pipelines; whether to require the installation of emergency flow restricting devices (EFRDs) in certain areas; whether revised valve spacing requirements are needed on new construction or existing pipelines; whether repair timeframes should be specified for pipeline segments in areas outside the HCAs that are assessed as part of IM; and whether to establish and/or adopt standards and procedures for improving the methods of preventing, detecting, assessing and remediating stress corrosion cracking in hazardous liquid pipeline systems. On November 15, 2010, the American Petroleum Institute and the Association of Oil Pipe Lines requested PHMSA to extend the ANPRM comment period deadline a minimum of 60 days to give their members sufficient time to respond to this ANPRM. Likewise, on November 29, 2010, Texas Oil and Gas Association requested extension of the comment period a minimum of 60 days. PHMSA has concurred, in part, with these requests and has extended the comment period from January 18, 2011, to February 18, 2011. This extension will provide sufficient time for submission of comments concerning this ANPRM.

Issued in Washington, DC, on December 23, 2010.
Linda Daugherty,
Deputy Associate Administrator for Policy and Programs.

[FR Doc. 2010-33234 Filed 1-3-11; 8:45 am]

BILLING CODE 4910-60-P